DEPARTMENT OF TRANSPORTATION

Federal Aviation Administration

RTCA Special Committee 189/EUROCAE Working Group 53; Air Traffic Services Safety and Interoperability Requirements

Pursuant to section 10(a)(2) of the Federal Advisory Committee Act (Pub. L. 92-463, 5 U.S.C., Appendix 2), notice is hereby given for a joint Special Committee (SC)-189/EUROCAE Working Group (WG)-53 meeting to be held April 2-6, 2001, starting at 9:00 a.m. each day. The meeting will be held at the Portofino Hotel, Portofino Way, Redondo Beach, CA.

The agenda will include: Monday, April 2: Plenary Session Convenes at 9:00 a.m.: (1) Welcome and Introductory Remarks; (2) Review Meeting Agenda; (3) Review Previous Meeting Minutes; (4) Sub-Group and Related Reports; (5) Position Papers Planned for Plenary Agreement; (6) SC-189/WG-53 Co-Chair Progress Report. Tuesday, April 3 through Thursday, April 5: (7) Sub-group Meetings. Friday, April 6: Plenary Session: (8) Introductory Remarks; (9) Review Meeting Agenda; (10) Review of Preliminary Meeting Minutes; (11) Sub-Group and Related Reports; (12) Position Papers Planned for Plenary Agreement; (13) SC-189/WG-53 Co-Chair Progress Report; (14) Other Business; (15) Date and Location of Next Meeting; (16) Closing.

Attendance is open to the interested public but limited to space availability. With the approval of the chairmen, members of the public may present oral statements at the meeting. Persons wishing to present statements or obtain information should contact the RTCA Secretariat, 1140 Connecticut Avenue, NW., Suite 1020, Washington, DC 20036; (202) 833-9433 (phone), (202) 833-9434 (fax), or by http://www.rtca.org (web site). Members of the public may present a written statement to the committee at any time.

Janice L. Peters,
Designated Office.

[FR Doc. 01-6237 Filed 3-2-01; 8:45 am]

BILLING CODE 4910-13-M